DEPARTMENT OF COMMERCE

International Trade Administration

North American Free Trade Agreement (NAFTA), Article 1904 Binational Panel Reviews: Correction of Notice of Consent Motion to Dismiss Panel Review, published on March 14, 2006

AGENCY: NAFTA Secretariat, United States Section, International Trade Administration, Department of Commerce.

ACTION: Correction of Notice of Consent Motion to Dismiss the Panel Review should have read “of the final affirmative countervailing duty determination made by the International Trade Administration”, respecting Certain Durum Wheat and Hard Red Spring Wheat from Canada (Secretariat File No. USA-CDA-2003-1904-05).

Dated: March 15, 2006.
Caratina L. Alston,
United States Secretary, NAFTA Secretariat.

[FR Doc. E6-4010 Filed 3-20-06; 8:45 am]

BILLING CODE 3510-GT-P